DEPARTMENT OF ENERGY

Notice of Request for Information on Measurement and Verification Guidelines for Performance-Based Contracts

AGENCY: Office of Federal Energy Management Program, Department of Energy.

ACTION: Request for information (RFI).

SUMMARY: The U.S. Department of Energy (DOE) invites public comment on updates to the measurement and verification (M&V) guidelines for performance-based contracts. The M&V guidelines provide procedures for verifying and quantifying the savings resulting from energy-efficient equipment, water conservation, improved operation and maintenance, renewable energy, and cogeneration projects installed under performance-based contracts. DOE seeks to update the existing guidance.

DATES: Responses to the RFI must be received by April 19, 2024.

ADDRESSES: Interested parties are to submit comments electronically to MV5.0Feedback@hq.doe.gov. Include “M&V Guidelines Update” in the subject line of the email. Only electronic responses will be accepted. The draft “M&V Guidelines: Measurement and Verification for Performance-Based Contracts Version 5.0” is located at https://www.energy.gov/femp/measurement-and-verification-federal-energy-savings-performance-contracts.

FOR FURTHER INFORMATION CONTACT: Questions may be addressed to Priya Stiller, 240-252-9592, Priya.Stiller@hq.doe.gov.

SUPPLEMENTARY INFORMATION: The Federal Energy Management Program (FEMP) has drafted an update to the FEMP M&V Guidelines: Measurement and Verification for Performance-Based Contracts Version 4.0, released in November 2015. Draft edits to the current version include clarification on the application of M&V options used in performance-based projects, based on review of the FEMP energy savings performance contract (ESPC) program and feedback from stakeholders; and a reorganization of and additions to the guidance for specific energy conservation measures in Section 6.0. The appendices reflect DOE ESPC indefinite-delivery, indefinite-quantity (IDIQ) program-specific outline updates for the required M&V plan, post-installation report and annual report. Similarly, the Risk Responsibility and Performance Matrix has been updated to reflect the most recent version (2023) of the DOE ESPC IDIQ contract requirements. The draft guidelines would remain applicable to all performance-based contracts.

The draft “M&V Guidelines: Measurement and Verification for Performance-Based Contracts Version 5.0” is located at https://www.energy.gov/femp/measurement-and-verification-federal-energy-savings-performance-contracts.

Confidential Business Information: Pursuant to 10 CFR 1004.11, any person submitting information that he or she believes to be confidential and exempt by law from public disclosure should submit via email, postal mail, or hand delivery two well-marked copies: one copy of the document marked “confidential” including all the information believed to be confidential, and one copy of the document marked “non-confidential” with the information believed to be confidential deleted. Submit these documents via email or on a CD, if feasible. DOE will make its own determination about the confidential status of the information and treat it according to its determination.

Signing Authority: This document of the Department of Energy was signed on March 14, 2024, by Mary Sotos, Director, Office of Federal Energy Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 19, 2024.
Treena V. Garrett,
Federal Register Liaison Officer, U.S. Department of Energy.

[FR Doc. 2024-06100 Filed 3-21-24; 8:45 am]

BILLING CODE 6450-01-P